DEPARTMENT OF COMMERCE

International Trade Administration

[A-570-949]

Wire Decking from the People's Republic of China: Postponement of Preliminary Determination of Antidumping Duty Investigation

AGENCY: Import Administration, International Trade Administration, Department of Commerce.

EFFECTIVE DATE: October 27, 2009.

FOR FURTHER INFORMATION CONTACT: Frances Veith or Trisha Tran, AD/CVD Operations, Office 8, Import Administration, International Trade Administration, U.S. Department of Commerce, 14th Street and Constitution Avenue, NW, Washington, DC 20230; telephone: (202) 482-4295 or (202) 482-4852, respectively.

SUPPLEMENTARY INFORMATION:

Postponement of Preliminary Determination

On June 25, 2009, the Department of Commerce (“the Department”) initiated an antidumping duty investigation on wire decking from the People's Republic of China.¹ The notice of initiation stated that, unless postponed, the Department would issue its preliminary determination no later than 140 days after the date of issuance of the initiation, in accordance with section 733(b)(1)(A) of the Tariff Act of 1930, as amended (“the Act”). The preliminary determination is currently due no later than November 12, 2009.

¹ See Wire Decking From the People's Republic of China: Initiation of Antidumping Duty Investigation, 74 FR 31691 (July 2, 2009).

On October 15, 2009, petitioners, AWP Industries, Inc., ITC Manufacturing, Inc., J&L Wire Cloth LLC, Nashville Wire Products Mfg. Co., Inc., and Wireway Husky Corporation (collectively, “Petitioners”), made a timely request, pursuant to 19 CFR 351.205(b)(2) and (e), for a 50-day postponement of the preliminary determination, in order to allow additional time for the Department to review respondents' sections C and D questionnaire submissions.² Because there are no compelling reasons to deny the request, in accordance with section 733(c)(1)(A) of the Act, the Department is postponing the deadline for the preliminary determination by 50 days.

² See Petitioners letter regarding, “Wire Decking from the People's Republic of China - Request to Postpone the Preliminary Antidumping Duty Determination,” dated October 15, 2009.

An extension of 50 days from the current deadline of November 12, 2009, would result in a new deadline of January 1, 2010. However, since January 1, 2010, falls on a federal holiday, a non-business day, the deadline for the preliminary determination will now be due no later than January 4, 2010, the next business day. The deadline for the final determination will continue to be 75 days after the date of the preliminary determination, unless extended.

This notice is issued and published pursuant to section 733(c)(2) of the Act and 19 CFR 351.205(f)(1).

Dated: October 20, 2009.
Ronald K. Lorentzen,
Acting Assistant Secretary for Import Administration.

[FR Doc. E9-25852 Filed 10-26-09; 8:45 am]

BILLING CODE 3510-DS-S